DEPARTMENT OF ENERGY

Federal Energy Regulatory Commission

[Docket No. RP04-199-000]

Williston Basin Interstate Pipeline Company; Notice of Fuel and Electric Power Reimbursement Filing

March 4, 2004.

Take notice that on March 1, 2004, Williston Basin Interstate Pipeline Company (Williston Basin), tendered for filing as part of its FERC Gas Tariff, Second Revised Volume No. 1 and Original Volume No. 2, the following revised tariff sheets to become effective April 1, 2004.

Second Revised Volume No. 1

Fifty-fourth Revised Sheet No. 15

Thirtieth Revised Sheet No. 15A

Fifty-fourth Revised Sheet No. 16

Thirtieth Revised Sheet No. 16A

Fifty-second Revised Sheet No. 18

Thirtieth Revised Sheet No. 18A

Thirtieth Revised Sheet No. 19

Thirtieth Revised Sheet No. 20

Original Volume No. 2

Ninety-eighth Revised Sheet No. 11B

Williston Basin states that the revised tariff sheets reflect revisions to the Company's fuel reimbursement percentages for gathering, storage and transportation services, and to the Company's electric power reimbursement rates for storage and transportation services, pursuant to Williston Basin's Fuel and Electric Power Reimbursement Adjustment Provision contained in section 38 of the General Terms and Conditions of its FERC Gas Tariff, Second Revised Volume No. 1.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-527 Filed 3-10-04; 8:45 am]

BILLING CODE 6717-01-P